DEPARTMENT OF THE TREASURY

Office of Foreign Assets Control

Proposed Collection; Comment Request for Remittance Forwarding Services and Travel and Carrier Services to Cuba

AGENCY: Office of Foreign Assets Control, Treasury.

ACTION: Notice and request for comments.

SUMMARY: The Department of the Treasury, as part of its continuing effort to reduce paperwork and respondent burden, invites the general public and other Federal agencies to comment on proposed and/or continuing information collections, as required by the Paperwork Reduction Act of 1995. Currently, the Office of Foreign Assets Control (OFAC) within the Department of the Treasury is soliciting comments concerning OFAC's information collection requirements for persons using remittance forwarding, travel, or carrier service providers for remittances or travel to Cuba, which are contained within the Cuban Assets Control Regulations.

DATES: Written comments must be submitted on or before July 1, 2019 to be assured of consideration.

ADDRESSES: You may submit comments by any of the following methods:

Federal eRulemaking Portal: www.regulations.gov. Follow the instructions on the website for submitting comments. Refer to Docket Number OFAC-2019-0002 and the Office of Management and Budget (OMB) control numbers 1505-0167 and 1505-0168.

Fax: Attn: Request for Comments (Remittance Forwarding Services and Travel and Carrier Services to Cuba) 202-622-1759.

Mail: Attn: Request for Comments (Remittance Forwarding Services and Travel and Carrier Services to Cuba), Office of Foreign Assets Control, Department of the Treasury, 1500 Pennsylvania Avenue NW, Washington, DC 20220. Refer to Docket Number OFAC-2019-0002 and the OMB control numbers 1505-0167 and 1505-0168.

Instructions: All submissions received must include the agency name and the Federal Register Doc. number that appears at the end of this document. Comments received will be made available to the public via regulations.gov or upon request, without change and including any personal information provided.

FOR FURTHER INFORMATION CONTACT: OFAC: Assistant Director for Licensing, tel.: 202-622-2480; Assistant Director for Regulatory Affairs, tel.: 202-622-4855; Assistant Director for Sanctions Compliance & Evaluation, tel.: 202-622-2490; or the Department of the Treasury's Office of the Chief Counsel (Foreign Assets Control), Office of the General Counsel, tel.: 202-622-2410.

SUPPLEMENTARY INFORMATION: Title: Remittance Forwarding Services and Travel and Carrier Services to Cuba.

OMB Number: 1505-0167 and 1505-0168.

Abstract: The information in 1505-0167 is a certification required pursuant to § 515.572(a)(4) of the Cuban Assets Control Regulations, 31 CFR part 515 (CACR) by persons subject to the jurisdiction of the United States who make authorized remittances to persons in Cuba. OFAC will use the information to monitor compliance with regulations governing authorized family and inherited remittances, donative remittances, remittances to religious organizations, remittances to students in Cuba pursuant to an educational license, emigration remittances, and periodic remittances from blocked accounts as well as the provision of remittance forwarding services.

The information in 1505-0168 is a certification required pursuant to § 515.572(a)(4) of the CACR by persons subject to the jurisdiction of the United States who engage in authorized travel to Cuba. OFAC will use the information to monitor compliance with regulations governing persons subject to U.S. jurisdiction, including travel agents, airlines and vessel operators, providing authorized travel and carrier services with respect to Cuba and persons who travel to Cuba.

The record keeping burden associated with these collections is addressed in 1505-0164.

The burden estimates herein reflect the current CACR. On April 17, 2019, National Security Advisor Ambassador John Bolton announced forthcoming regulatory changes that may impact these estimates. Because those regulatory changes have not yet been issued, however, it is not possible to reflect any potential changes to the relevant burden estimates. OFAC will update the relevant burden estimates as necessary and feasible.

Current Actions: OFAC requires that persons subject to U.S. jurisdiction providing remittance forwarding services or travel or carrier services authorized pursuant to 31 CFR 515.572 retain for at least five years from the date of the transaction a certification from each customer indicating the section of 31 CFR part 515 or, if relevant, the number of the specific license, that authorizes the customer to send the remittance to Cuba or that authorizes the customer to travel to Cuba, respectively. In addition, the service provider must maintain on file the names and addresses of individual remitters or travelers, the number and amount of each remittance, and that name and address of each recipient, as applicable.

Type of Review: Extension of currently approved collections.

Affected Public: Individuals, households, businesses, non-governmental organizations, and banking institutions. The likely respondents and record-keepers affected by this collection of information are persons using U.S. remittance forwarding services and U.S. travel and carrier services.

For 1505-0167 (remittance forwarding services):

Estimated Number of Respondents: 4,000,000 respondents; 7,000,000 total filings.

Estimated Time per Respondent: 1 minute.

Estimated Total Annual Burden Hours: 116,667 hours.

For 1505-0168 (travel and carrier services):

Estimated Number of Respondents: 1,750,000.

Estimated Time per Respondent: 1 minute.

Estimated Total Annual Burden Hours: 29,167 hours.

Request for Comments

Comments submitted in response to this notice will be summarized and/or included in the request for OMB approval. All comments will become a matter of public record. Comments are invited on: (a) Whether the collection of information is necessary for the proper performance of the functions of the agency, including whether the information has practical utility; (b) the accuracy of the agency's estimate of the burden of the collection of information, including the validity of the methodology and assumptions used; (c) ways to enhance the quality, utility, and clarity of the information to be collected; (d) ways to minimize the burden of the collection of information on respondents, including through the use of automated collection techniques or other forms of information technology; and (e) estimates of capital or start-up costs and costs of operation, maintenance, and purchase of services to provide information.

Approved: April 24, 2019.
Andrea Gacki,
Director, Office of Foreign Assets Control.

[FR Doc. 2019-08647 Filed 4-29-19; 8:45 am]

BILLING CODE 4810-AL-P